DEPARTMENT OF THE TREASURY

Agency Information Collection Activities; Submission for OMB Review; Comment Request; Multiple Fiscal Service Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before January 29, 2020 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8100, Washington, DC 20220, or email at PRA@treasury.gov.

FOR FURTHER INFORMATION CONTACT: Copies of the submissions may be obtained from Spencer W. Clark by emailing PRA@treasury.gov, calling (202) 927-5331, or viewing the entire information collection request at www.reginfo.gov.

SUPPLEMENTARY INFORMATION:

Bureau of the Fiscal Service (BFS)

1. Title: FS Form 2887—Application Form for U.S. Department of the Treasury Stored Value Card (SVC) Program.

OMB Control Number: 1530-0013.

Type of Review: Revision of a currently approved collection.

Description: This collection of forms is used to collect information from individuals requesting enrollment in the Treasury SVC program along with supplemental information for contractors choosing to participate in the program, to obtain authorization to initiate debit and credit entries to their bank or credit union accounts, and to facilitate collection of any delinquent amounts. Disclosure of the information requested on the forms is voluntary; however, failure to furnish the requested information may significantly delay or prevent participation in the Treasury SVC program.

Form: FS Forms 2887, 2889 and 5752.

Affected Public: Individuals and households.

Estimated Number of Respondents: 102,030.

Frequency of Response: On occasion.

Estimated Total Number of Annual Responses: 102,030.

Estimated Time per Response: 10 minutes for FS Forms 2887 & 2889, 1 minute for FS Form 5752.

Estimated Total Annual Burden Hours: 17,001.

2. Title: Release (FS Form 2001).

OMB Control Number: 1530-0053.

Type of Review: Extension without change of a currently approved collection.

Description: It may be necessary for a registered owner/co-owner of savings bonds or a TreasuryDirect account holder to waive a claim as the result of an unauthorized payment to person(s) not entitled and then release the Government of any liability.

Form: FS Form 2001.

Affected Public: Individuals and households.

Estimated Number of Respondents: 25.

Frequency of Response: On occasion.

Estimated Total Number of Annual Responses: 25.

Estimated Time per Response: 6 minutes.

Estimated Total Annual Burden Hours: 3.

Authority: 44 U.S.C. 3501 et seq.

Dated: December 23, 2019.
Spencer W. Clark,
Treasury PRA Clearance Officer.

[FR Doc. 2019-28177 Filed 12-27-19; 8:45 am]

BILLING CODE 4810-AS-P